DEPARTMENT OF TRANSPORTATION

Federal Aviation Administration

14 CFR Part 39

[Docket No. FAA-2024-0758; Project Identifier MCAI-2023-00671-T; Amendment 39-22819; AD 2024-16-13]

RIN 2120-AA64

Airworthiness Directives; Bombardier, Inc., Airplanes

AGENCY: Federal Aviation Administration (FAA), DOT.

ACTION: Final rule.

SUMMARY: The FAA is adopting a new airworthiness directive (AD) for certain Bombardier, Inc., Model BD-100-1A10 airplanes. This AD was prompted by the discovery of a single-point failure within the left-hand and right-hand heater current monitor (HCM) units. This AD requires installing a monitor circuit comprising relays external to the HCM units. This AD also requires revising the normal and non-normal procedure sections of the existing airplane flight manual (AFM) to add new procedures associated with revised crew alerting system (CAS) messages. The FAA is issuing this AD to address the unsafe condition on these products.

DATES: This AD is effective October 29, 2024.

The Director of the Federal Register approved the incorporation by reference of certain publications listed in this AD as of October 29, 2024.

ADDRESSES:

AD Docket: You may examine the AD docket at regulations.gov under Docket No. FAA-2024-0758; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; telephone 514-855-2999; email: ac.yul@aero.bombardier.com; website: bombardier.com.

• You may view this material at the FAA, Airworthiness Products Section, Operational Safety Branch, 2200 South 216th St., Des Moines, WA. For information on the availability of this material at the FAA, call 206-231-3195. It is also available at regulations.gov under Docket No. FAA-2024-0758.

FOR FURTHER INFORMATION CONTACT: Steven Dzierzynski, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Bombardier, Inc., Model BD-100-1A10 airplanes. The NPRM published in the Federal Register on March 25, 2024 (89 FR 20562). The NPRM was prompted by AD CF-2023-33, dated May 10, 2023 (referred to after this as the MCAI), issued by Transport Canada, which is the aviation authority for Canada. The MCAI states that during a review of the air data system, Bombardier discovered that a single-point failure exists within the left-hand and right hand HCM units. The HCM unit is designed with a single programmable logic device (PLD), which is responsible for the control and monitoring functions of the HCM unit. The PLD could fail in a way that it would erroneously energize the heater control relay and switch the heaters off. This failure could lead to un-annunciated loss of ice protection on the air data probes, resulting in the potential display of misleading airspeed, and erroneous indications to the flightcrew.

In the NPRM, the FAA proposed to require installing a monitor circuit comprising relays external to the HCM units. The NPRM also required revising the normal and non-normal procedure sections of the existing AFM to add new procedures associated with revised CAS messages. The FAA is issuing this AD to address the unsafe condition on these products.

You may examine the MCAI in the AD docket at regulations.gov under Docket No. FAA-2024-0758.

Discussion of Final Airworthiness Directive

Comments

The FAA received a comment from NetJets Inc. The following presents the comment received on the NPRM and the FAA's response to the comment.

Request to Reference Previous AFM Revision

NetJets requested that the NPRM be revised to change references to Bombardier Challenger 350 AFM, Publication No. CH 350 AFM, Revision 38, dated May 11, 2023 (Revision 38), to Revision 36, dated September 27, 2022 (Revision 36), which is referenced in the MCAI for Challenger 350 airplanes. NetJets pointed out that the particular procedures affected by the proposed AD were amended in Revision 36. Further, NetJets stated that Revision 38 is out-of-date and speculated that chances are good that, if the FAA changes to Revision 39, dated September 25, 2023 (Revision 39), Bombardier will issue a new revision before the final AD is released. NetJets went on to assert that this will cause an increased workload for the FAA, Bombardier, and operators due to the increase in necessary requests for approvals of alternative methods of compliance (AMOCs) to use later revisions of the AFM.

The FAA does not agree to revise this AD to change the AFM revision but provides the following clarification: Paragraphs (h)(3) and (4) specify to revise Chapter 4, Normal Procedures, to include the information in BEFORE STARTING ENGINES section, Subsection 04-02, and in Chapter 5, Non-Normal Procedures, to include the information in Subsection 05-27, Ice & Rain Protection, respectively, of the Bombardier Challenger 350 AFM, Publication No. CH 350 AFM, Revision 38, dated May 11, 2023 (for the applicable airplanes). The language in paragraph (h) of this AD is designed to allow incorporating the information in the referenced sections, regardless of the revision level of the AFM, so long as the language is identical to the information in BEFORE STARTING ENGINES section, Subsection 04-02, Chapter 4, Normal Procedures, and Subsection 05-27, Ice & Rain Protection, Chapter 5, Non-Normal Procedures, of the Bombardier Challenger 350 AFM, Publication No. CH 350 AFM, Revision 38, dated May 11, 2023. The information in BEFORE STARTING ENGINES section, Subsection 04-02, Chapter 4, Normal Procedures, and Subsection 05-27, Ice & Rain Protection, Chapter 5, Non-Normal Procedures, of the Bombardier Challenger 350 AFM, Publication No. CH 350 AFM, Revision 38 is identical to that in Revision 36. Therefore, this AD has not been changed regarding this request.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

The FAA reviewed Bombardier Service Bulletin 100-30-06 and Bombardier Service Bulletin 350-30-001, both dated December 29, 2022. This material specifies procedures to install a monitoring circuit comprising relays external to the HCM units, including reworking the plate assembly, installing relay bracket assemblies, installing relays and a rail terminal module, installing wires for the relays, and performing operational testing. These documents are distinct since they apply to different airplane serial numbers.

The FAA also reviewed the following material, which specifies new normal procedures to follow after installation of the monitoring circuit. These documents are distinct since they apply to different airplane serial numbers.

• BEFORE STARTING ENGINES section, Subsection 04-02, Chapter 4, Normal Procedures, Bombardier Challenger 300 AFM (Imperial Version), Publication No. CSP 100-1, Revision 72, dated May 11, 2023. (For obtaining the procedures for Bombardier Challenger 300 AFM (Imperial Version), Publication No. CSP 100-1, use Document Identification No. CH 300 AFM-I.)

• BEFORE STARTING ENGINES section, Subsection 04-02, Chapter 4, Normal Procedures, Bombardier Challenger 350 AFM, Publication No. CH 350 AFM, Revision 38, dated May 11, 2023. (For obtaining the procedures for Bombardier Challenger 350 AFM, Publication No. CH 350 AFM, use Document Identification No. CH 350 AFM.)

The FAA reviewed the following material, which specifies non-normal procedures to follow after installation of the monitoring circuit. These documents are distinct since they apply to different airplane serial numbers.

• Subsection 05-27, Ice & Rain Protection, Chapter 5, Non-Normal Procedures, Bombardier Challenger 300 AFM (Imperial Version), Publication No. CSP 100-1, Revision 72, dated May 11, 2023. (For obtaining the procedures for Bombardier Challenger 300 AFM (Imperial Version), Publication No. CSP 100-1, use Document Identification No. CH 300 AFM-I.)

• Subsection 05-27, Ice & Rain Protection, Chapter 5, Non-Normal Procedures, Bombardier Challenger 350 AFM, Publication No. CH 350 AFM, Revision 38, dated May 11, 2023. (For obtaining the procedures for Bombardier Challenger 350 AFM, Publication No. CH 350 AFM, use Document Identification No. CH 350 AFM.)

This material is reasonably available because the interested parties have access to it through their normal course of business or by the means identified in the ADDRESSES section.

Costs of Compliance

The FAA estimates that this AD affects 343 airplanes of U.S. registry. The FAA estimates the following costs to comply with this AD:

Estimated Costs for Required Actions
Labor cost | Parts cost | Cost per product | Cost on U.S. operators
Up to 70 work-hours × $85 per hour = Up to $5,950 | Up to $2,324 | Up to $8,274 | Up to $2,837,982

The FAA has included all known costs in its cost estimate. According to the manufacturer, however, some or all the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-16-13 Bombardier, Inc.: Amendment 39-22819; Docket No. FAA-2024-0758; Project Identifier MCAI-2023-00671-T.

(a) Effective Date

This airworthiness directive (AD) is effective October 29, 2024.

(b) Affected ADs

None.

(c) Applicability

This AD applies to Bombardier, Inc., Model BD-100-1A10 airplanes, certificated in any category, serial numbers 20003 through 20936 inclusive.

(d) Subject

Air Transport Association (ATA) of America Code 30, Ice and Rain Protection.

(e) Unsafe Condition

This AD was prompted by a review of the air data system where Bombardier discovered that a single-point failure exists within the left-hand and right-hand heater current monitor (HCM) units. The FAA is issuing this AD to address the failure of the programmable logic device in the left-hand and right-hand HCM units. The unsafe condition, if not addressed, could lead to un-annunciated loss of ice protection on the air data probes, resulting in the potential display of misleading airspeed, and erroneous indications to the flightcrew.

(f) Compliance

Comply with this AD within the compliance times specified, unless already done.

(g) Monitoring Circuit Installation and Tests

Within 60 months from the effective date of this AD, install a monitoring circuit comprising of relays external to the HCM units, in accordance with sections 2.B. and 2.C. of the Accomplishment Instructions of the applicable material specified in paragraph (g)(1) or (2) of this AD.

(1) Bombardier Service Bulletin 100-30-06, dated December 29, 2022 (for airplane serial numbers 20003 through 20500 inclusive).

(2) Bombardier Service Bulletin 350-30-001, dated December 29, 2022 (for airplane serial numbers 20501 through 20936 inclusive).

(h) Revision of Existing Airplane Flight Manual (AFM)

Within 60 months from the effective date of this AD, and after the completion of the actions required by paragraph (g) of this AD, revise the existing AFM as specified in paragraphs (h)(1) through (4) of this AD, as applicable.

(1) For airplane serial numbers 20003 through 20500 inclusive: Revise Chapter 4, Normal Procedures, to include the information in BEFORE STARTING ENGINES section, Subsection 04-02, Chapter 4, Normal Procedures, Bombardier Challenger 300 AFM (Imperial Version), Publication No. CSP 100-1, Revision 72, dated May 11, 2023.

Note 1 to paragraph (h)(1): For obtaining the procedures specified in paragraphs (h)(1) and (2) of this AD for Bombardier Challenger 300 AFM (Imperial Version), Publication No. CSP 100-1, use Document Identification No. CH 300 AFM-I.

(2) For airplane serial numbers 20003 through 20500 inclusive: Revise Chapter 5, Non-Normal Procedures, to include the information in Subsection 05-27, Ice & Rain Protection, Chapter 5, Non-Normal Procedures, Bombardier Challenger 300 AFM (Imperial Version), Publication No. CSP 100-1, Revision 72, dated May 11, 2023.

(3) For airplane serial numbers 20501 through 20936 inclusive: Revise Chapter 4, Normal Procedures, to include the information in BEFORE STARTING ENGINES section, Subsection 04-02, Chapter 4, Normal Procedures, Bombardier Challenger 350 AFM, Publication No. CH 350 AFM, Revision 38, dated May 11, 2023.

Note 2 to paragraph (h)(3): For obtaining the procedures specified in paragraphs (h)(3) and (4) of this AD for Bombardier Challenger 350 AFM, Publication No. CH 350 AFM, use Document Identification No. CH 350 AFM.

(4) For airplane serial numbers 20501 through 20936 inclusive: Revise Chapter 5, Non-Normal Procedures, to include the information in Subsection 05-27, Ice & Rain Protection, Chapter 5, Non-Normal Procedures, Bombardier Challenger 350 AFM, Publication No. CH 350 AFM, Revision 38, dated May 11, 2023.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(j) Additional Information

For more information about this AD, contact Steven Dzierzynski, Aviation Safety Engineer, FAA, 1600 Stewart Avenue, Suite 410, Westbury, NY 11590; telephone 516-228-7300; email 9-avs-nyaco-cos@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) BEFORE STARTING ENGINES section, Subsection 04-02, Chapter 4, Normal Procedures, Bombardier Challenger 300 AFM (Imperial Version), Publication No. CSP 100-1, Revision 72, dated May 11, 2023.

Note 3 to paragraph (k)(2)(i): For obtaining the procedures specified in paragraphs (k)(2)(i) and (ii) of this AD for Bombardier Challenger 300 AFM (Imperial Version), Publication No. CSP 100-1, use Document Identification No. CH 300 AFM-I.

(ii) Subsection 05-27, Ice & Rain Protection, Chapter 5, Non-Normal Procedures, Bombardier Challenger 300 AFM (Imperial Version), Publication No. CSP 100-1, Revision 72, dated May 11, 2023.

(iii) BEFORE STARTING ENGINES section, Subsection 04-02, Chapter 4, Normal Procedures, Bombardier Challenger 350 AFM, Publication No. CH 350 AFM, Revision 38, dated May 11, 2023.

Note 4 to paragraph (k)(2)(iii): For obtaining the procedures specified in paragraphs (k)(2)(iii) and (iv) of this AD for Bombardier Challenger 350 AFM, Publication No. CH 350 AFM, use Document Identification No. CH 350 AFM.

(iv) Subsection 05-27, Ice & Rain Protection, Chapter 5, Non-Normal Procedures, Bombardier Challenger 350 AFM, Publication No. CH 350 AFM, Revision 38, dated May 11, 2023.

(v) Bombardier Service Bulletin 100-30-06, dated December 29, 2022.

(vi) Bombardier Service Bulletin 350-30-001, dated December 29, 2022.

(3) For material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on August 6, 2024.
Victor Wicklund,
Deputy Director, Compliance & Airworthiness Division, Aircraft Certification Service.

[FR Doc. 2024-21806 Filed 9-23-24; 8:45 am]

BILLING CODE 4910-13-P